DEPARTMENT OF COMMERCE

National Oceanic and Atmospheric Administration

[I.D. 020805B]

New England Fishery Management Council; Public Meetings

AGENCY: National Marine Fisheries Service (NMFS), National Oceanic and Atmospheric Administration (NOAA), Commerce.

ACTION: Public meeting.

SUMMARY: The New England Fishery Management Council (Council) is scheduling a public meeting of its Scallop Advisory Panel in March 2005. Recommendations from the committee will be brought to the full Council for formal consideration and action, if appropriate.

DATES: The meeting will held on Wednesday, March 2, 2005, at 9:30 a.m.

ADDRESSES: The meeting will be held at the Four Points by Sheraton, 407 Squire Road, Revere, MA 02151; telephone: (781) 284-7200.

FOR FURTHER INFORMATION CONTACT: Paul J. Howard, Executive Director, New England Fishery Management Council (978) 465-0492. Requests for special accommodations should be addressed to the New England Fishery Management Council, 50 Water Street, Newburyport, MA 01950; telephone: (978) 465-0492.

SUPPLEMENTARY INFORMATION: The Scallop Advisory Panel will meet with the Scallop Plan Development Team to discuss issues related to safety such as, casualty trends in the fishing industry, and regulations that have elevated safety risk and potential solutions. They will also discuss alternative approaches for making controlled access area allocations; access area mortality targets, rotation objectives and seasonal access programs. Also on the agenda will be whether or not the Hudson Canyon Area should continue to be a controlled access area in 2006. They will also discuss impediments and potential solutions to landing scallops for value-added processing. Finally, they will discuss a research set aside program and scallop research priorities.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least five days prior to the meeting dates.

Dated: February 9, 2005.
Alan D. Risenhoover,
Acting Director, Office of Sustainable Fisheries, National Marine Fisheries Service.

[FR Doc. E5-590 Filed 2-11-05; 8:45 am]

BILLING CODE 3510-22-S